DEPARTMENT OF COMMERCE

National Oceanic and Atmospheric Administration

RIN 0648-XH43

Western Pacific Fishery Management Council; Public Meetings; Correction

AGENCY: National Marine Fisheries Service (NMFS), National Oceanic and Atmospheric Administration (NOAA), Commerce.

ACTION: Notice of cancellation of a public meeting.

SUMMARY: This notice advises the public that the Western Pacific Fishery Management Council (Council) will postpone a meeting of the Hawaii Archipelago Regional Ecosystem Advisory Committee in Honolulu, HI scheduled for Friday, May 16, 2008.

FOR FURTHER INFORMATION CONTACT: Kitty M. Simonds, Executive Director; telephone: (808) 522-8220.

SUPPLEMENTARY INFORMATION: The original notice published in the Federal Register on April 24, 2008 (73 FR 22137).

The Hawaii Archipelago Regional Ecosystem Advisory Committee meeting that was scheduled for Friday, May 16, 2008 has been postponed until further notice. The Council will publish a Federal Register notice when dates for this meeting are set.

All other previously-published information remains unchanged.

Authority: 16 U.S.C. 1801 et seq.

Dated: May 9, 2008.
Tracey L. Thompson,
Acting Director, Office of Sustainable Fisheries, National Marine Fisheries Service.

[FR Doc. E8-10715 Filed 5-13-08; 8:45 am]

BILLING CODE 3510-22-S